DEPARTMENT OF ENERGY

Federal Energy Regulatory Commission

[Docket No. EL03-25-003, et al.]

New England Power Pool, et al.; Electric Rate and Corporate Filings

March 21, 2003.

The following filings have been made with the Commission. The filings are listed in ascending order within each docket classification.

1. New England Power Pool

[Docket No. EL03-25-003]

Take notice that on March 18, 2003, New England Power Pool (NEPOOL) Participants Committee tendered for filing with the Federal Energy Regulatory Commission (Commission) a supplement to its March 3, 2003 Report of Compliance.

The NEPOOL Participants Committee states that copies of this supplement were sent to all parties in Docket No. EL03-25, the New England state governors and regulatory commissions and the Participants in the New England Power Pool.

Comment Date: April 17, 2003.

2. Alliance Companies, et al. and National Grid USA

[Docket No. EL02-65-011]

Take notice that on March 18, 2003, the Midwest Independent Transmission System Operator, Inc. (Midwest ISO) and PJM Interconnection, L.L.C. jointly filed with the Federal Energy Regulatory Commission (Commission), for informational purposes, an implementation progress report in accordance with the Commission's July 31, 2002 order in the above-referenced docket, 100 FERC § 61,137. This is fourth in a series of similar filings to be made on or about every 60 days.

Comment Date: April 17, 2003.

3. SP Newsprint Co.

[Docket No. ER03-432-001]

Take notice that on March 17, 2003, SP Newsprint tendered for filing a Response and Revised Tariff that amends its January 15, 2003, application and addresses concerns raised by the Federal Energy Regulatory Commission (Commission) and Intervenor, Portland General Electric Company. SP Newsprint is requesting that the Commission waive the 60-day notice requirement and asks that the rates be made effective on, or before, April 19, 2003.

Comment Date: April 7, 2003.

4. PPM Energy, Inc.

[Docket No. ER03-478-002]

Take notice that on March 17, 2003, PPM Energy, Inc., (PPM), submitted for filing a revised market-based tariff (Tariff), with the Federal Energy Regulatory Commission (Commission), reflecting its name change from PacifiCorp Power Marketing, Inc., and other changes to conform to prior Commission orders. PPM requests waiver of the 60-day prior notice requirement to allow its revised Tariff to become effective as of January 15, 2003.

Comment Date: April 7, 2003.

5. Entergy Services, Inc.

[Docket No. ER03-599-001]

Take notice that on March 14, 2003, Entergy Services, Inc., (Entergy Services), submitted for filing on behalf of Entergy Arkansas, Inc., (EAI), certain corrections to the transmittal letter accompanying Entergy Services' filing of EAI's 2003 Wholesale Formula Rate Update. Entergy Services states that the corrections replace certain references to the year 2002 within the text of the transmittal letter with corrected references to the year 2003.

Comment Date: April 4, 2003.

6. Maine Public Service Company

[Docket No. ER03-627-000]

Take notice that on March 14, 2003, Maine Public Service Company (MPS), submitted an informational filing setting forth the changed loss factor effective March 1, 2003, together with back-up materials, pursuant to Section 2.7 of the Settlement Agreement filed on February 28, 2001, in Docket No. ER01-1344-000, and accepted by the Federal Energy Regulatory Commission on April 13, 2001.

MPS states that copies of this filing were served on the parties to the Settlement Agreement in Docket No. ER01-1344-000, the Northern Maine Independent System Administrator, Inc., the Maine Public Utilities Commission, Commission Trial Staff, the Maine Public Advocate, and current MPS open access transmission tariff customers.

Comment Date: April 4, 2003.

7. American Electric Power Service Corporation

[Docket No. ER03-628-000]

Take notice that on March 17, 2003, the American Electric Power Service Corporation (AEPSC) tendered for filing a Service Agreement under the AEP Companies Power Sales Tariffs (Tariffs). The Tariffs were accepted for filing effective October 10, 1997 and were designated as AEP Operating Companies FERC Electric Tariff Original Volume No. 5 (Wholesale Tariff of the AEP Operating Companies) and FERC Electric Tariff Original Volume No. 8, effective January 8, 1998 in Docket ER 98-542-000 (Market-Based Rate Power Sales Tariff of the CSW Operating Companies). AEPSC respectfully requests waiver of notice to permit the attached Service Agreement to be made effective on or prior to February 16, 2003.

AEPSC states that a copy of the filing was served upon the Parties and the State Utility Regulatory Commissions of Arkansas, Indiana, Kentucky, Louisiana, Michigan, Ohio, Oklahoma, Tennessee, Texas, Virginia and West Virginia.

Comment Date: April 7, 2003.

8. Southern California Edison Company

[Docket No. ER03-629-000]

Take notice that on March 17, 2003, Southern California Edison Company (SCE) tendered for filing the Amended and Restated Service Agreement for Wholesale Distribution Service (Agreement) between SCE and SCEs Generation Business Unit. SCE states that the Agreement provides the terms and conditions under which SCE provides Distribution Service to SCEs Generation Business Unit under FERC Electric Tariff, First Revised Volume No. 5.

SCE also states that copies of this filing were served upon the Public Utilities Commission of the State of California and SCEs Generation Business Unit.

Comment Date: April 7, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the ;“e-Filing” link. The Commission strongly encourages electronic filings.

Magalie R. Salas,
Secretary.

[FR Doc. 03-7416 Filed 3-27-03; 8:45 am]

BILLING CODE 6717-01-P